DEPARTMENT OF TRANSPORTATION

Pipeline and Hazardous Materials Safety Administration

[Docket No. PHMSA-2010-0353; Notice No. 10-9]

Notice and Request for Comments on the Clarification of the Fireworks Approvals Policy

AGENCY: Pipeline and Hazardous Materials Safety Administration (PHMSA), DOT.

ACTION: Notice.

SUMMARY: PHMSA is seeking comment on its intent to clarify its fireworks approvals policy whereby the Office of Hazardous Materials Safety (OHMS), Approvals and Permits Division will only accept fireworks approvals applications from manufacturers and grant approvals only to manufacturers of fireworks devices.

DATES: Comments Due Date: January 18, 2011.

ADDRESSES: You may submit comments by identification of the docket number (PHMSA-2010-0353 (Notice No. 10-9)) by any of the following methods:

• Federal eRulemaking Portal: Go to http://www.regulations.gov. Follow the online instructions for submitting comments.

• Fax: 1-202-493-2251.

• Mail: Docket Operations, U.S. Department of Transportation, West Building, Ground Floor, Room W12-140, Routing Symbol M-30, 1200 New Jersey Avenue, SE., Washington, DC 20590.

• Hand Delivery: To Docket Operations, Room W12-140 on the ground floor of the West Building, 1200 New Jersey Avenue, SE., Washington, DC 20590, between 9 a.m. and 5 p.m., Monday through Friday, except Federal holidays.

Instructions: All submissions must include the agency name and docket number for this notice at the beginning of the comment. All comments received will be posted without change to the Federal Docket Management System (FDMS), including any personal information.

Docket: For access to the dockets to read background documents or comments received, go to http://www.regulations.gov or DOT's Docket Operations Office (see ADDRESSES).

FOR FURTHER INFORMATION CONTACT: Mr. Ryan Paquet, Director, Approvals and Permits Division, Office of Hazardous Materials Safety, (202) 366-4512, PHMSA, 1200 New Jersey Avenue, SE., Washington, DC 20590.

Background

The pyrotechnic industry is a global logistics supply chain comprised of mostly foreign fireworks manufacturers and domestic importers, retailers, distributors, and consumers. The transportation of a firework requires the issuance of an EX number approval by PHMSA. An EX number is a PHMSA-issued unique identifier that is more specific than just a hazard classification; an EX number applies to a particular explosive formula, device, and its packaging.

PHMSA understands that typically a fireworks device made by one manufacturer is packaged and marketed under a variety of different names according to the specifications of the various U.S. importers. Under the current approval process, before the fireworks device enters the U.S., each individual importer, retailer, and distributor, in addition to the original manufacturer, has been requesting separate and unique EX numbers for what are essentially identical fireworks devices. This results in multiple approval applications for functionally indistinguishable fireworks devices.

For at least ten years, PHMSA has been accepting these fireworks approval applications and issuing fireworks approvals to members of the pyrotechnic industry regardless of their actual position in the supply chain. It is unclear as to what was the justification for this action. Regardless, this redundant and burdensome process does not promote the safe transportation of fireworks devices, but rather has negative impacts on process efficiency and impedes the conduct of business for both the fireworks industry and PHMSA.

In this notice, PHMSA is seeking comment on its intent to only accept fireworks approval applications from, and issue fireworks approvals to, fireworks manufacturers. In addition, PHMSA is also seeking comment on its intent to consider a fireworks manufacturer to be an entity that formulates and produces a firework (for the definition of a firework, see § 173.59) or has previously produced a firework device but has made a change in the formulation, design, or process so as to alter the properties of the firework. After the comments received to this notice have been considered, PHMSA will issue a final notice responding to any comments received. PHMSA believes that by issuing fireworks approvals only to manufacturers, as described in this notice, it will enhance safety by ensuring uniform classification of fireworks devices, eliminating application duplicity, and minimizing the potential risks of the shipment of unapproved fireworks.

Issued in Washington, DC, on December 13, 2010 under authority delegated in 49 CFR part 1.
Magdy El-Sibaie,
Associate Administrator for Hazardous Materials Safety Pipeline and Hazardous Materials Safety Administration.

[FR Doc. 2010-31703 Filed 12-16-10; 8:45 am]

BILLING CODE 4910-60-P